SMALL BUSINESS ADMINISTRATION

[Declaration of Disaster #P003]

State of Arkansas

As a result of the President's major disaster declaration for Public Assistance on January 6, 2003, the U.S. Small Business Administration is activating its disaster loan program only for private non-profit businesses that provide essential services of a governmental nature. I find that Baxter, Clay, Cleburne, Craighead, Fulton, Greene, Independence, Izard, Jackson, Lawrence, Newton, Poinsett, Randolph, Searcy, Sharp, Stone, Van Buren and White Counties in the State of Arkansas constitute a disaster area due to damages caused by a severe ice storm occurring from December 3, 2002, and continuing through December 4, 2002. Applications for loans for physical damage as a result of this disaster may be filed until the close of business on March 7, 2003, at the address listed below or other locally announced locations: Small Business Administration, Disaster Area 3 Office, 4400 Amon Carter Blvd., Suite 102, Ft. Worth, TX 76155.

The interest rates are:

| Percent
For Physical Damage:
Non-profit organizations without credit available elsewhere | 3.324
Non-profit organizations with credit available elsewhere | 5.500

The number assigned to this disaster for physical damage is P00311.

Dated: January 7, 2003.
(Catalog of Federal Domestic Assistance Program Nos. 59008).
Herbert L. Mitchell,
Associate Administrator for Disaster Assistance.

[FR Doc. 03-677 Filed 1-13-03; 8:45 am]

BILLING CODE 8025-01-P